DEPARTMENT OF COMMERCE

National Oceanic and Atmospheric Administration

RIN 0648-XI21

Marine Mammals; File No. 774-1847-03

AGENCY: National Marine Fisheries Service (NMFS), National Oceanic and Atmospheric Administration (NOAA), Commerce.

ACTION: Notice; receipt of application for amendment.

SUMMARY: Notice is hereby given that NMFS Southwest Fisheries Science Center, Antarctic Marine Living Resources Program (Rennie Holt, Ph.D., Principal Investigator), 8604 La Jolla Shores Drive, La Jolla, CA 92037, has requested an amendment to scientific research Permit No. 774-147-02.

DATES: Written, telefaxed, or e-mail comments must be received on or before July 2, 2008.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No.774-1847-03.

FOR FURTHER INFORMATION CONTACT: Kate Swails or Tammy Adams, (301)713-2289.

SUPPLEMENTARY INFORMATION: The subject amendment to Permit No. 774-1847-02, issued on October 11, 2007 (72 FR 57914), is requested under the authority of the Marine Mammal Protection Act of 1972, as amended (16 U.S.C. 1361 et seq.), and the regulations governing the taking and importing of marine mammals (50 CFR part 216).

Permit No. 774-1847-02 authorizes the permit holder to take up to 710 Antarctic fur seals (Arctophalus gazella) and 20 leopard seals (Hydrurga leptonyx) annually. The animals are captured, measured, weighed, tagged, blood sampled, vibrissae collected, and have time-depth recorders, VHF transmitters, and platform terminal transmitters attached. A subset of fur seals are given an enema, have a tooth extracted, milk sampled, and are part of a doubly-labeled water study on energetics. Up to 50 adult male fur seals are tissue sampled and a subset of leopard seals are blubber and muscle sampled. The permit authorizes the research-related mortality of up to eight Antarctic fur seals (three adults and five pups) and one leopard seal annually The permit holder requests authorization to collect tissue samples from leopard seals and begin a southern elephant seal (Mirounga leonina) study. Up to 180 southern elephant seals would be captured, measured, and tagged annually. A subset would have blood and vibrissae collected, muscle/blubber biopsied, and satellite tags attached. The permit would authorize up to six research-related mortalities (three adults and three juveniles) of southern elephant seals. The amendment would be valid until September 30, 2011.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 28, 2008.
P. Michael Payne,
Chief, Permits, Conservation and Education Division, Office of Protected Resources, National Marine Fisheries Service.

[FR Doc. E8-12231 Filed 5-30-08; 8:45 am]

BILLING CODE 3510-22-S